DEPARTMENT OF COMMERCE

National Institute of Standards and Technology

Notice of Jointly Owned Invention Available for Licensing

AGENCY: National Institute of Standards and Technology, Commerce.

ACTION: Notice of jointly owned invention available for licensing.

SUMMARY: The invention listed below is owned in part by the U.S. Government, as represented by the Department of Commerce, and Snorkel, Inc. The Department of Commerce's interest in the invention is available for licensing in accordance with 35 U.S.C. 207 and 37 CFR part 404 to achieve expeditious commercialization of results of federally funded research and development.

FOR FURTHER INFORMATION CONTACT: Technical and licensing information on the invention may be obtained by writing to: National Institute of Standards and Technology, Technology Partnerships Division, Attn: Mary Clague, Building 820, Room 213, Gaithersburg, MD 20899. Information is also available via telephone: 301-975-4188, email: mclague@nist.gov, or fax: 301-869-2751. Any request for information should include the NIST Docket number and title for the invention as indicated below.

SUPPLEMENTARY INFORMATION: NIST may enter into a Cooperative Research and Development Agreement (“CRADA”) with the licensee to perform further research on the invention for purposes of commercialization. The invention available for licensing is:

Docket No.: 99-012/023US.

Title: Chain Code Position Detector.

Abstract: A position detector for sensing the position of a movable member which moves along an axis relative to a stationary member. A nonrepeating N bit chain code embodied in a scale on the movable member runs along the axis. A detector fixed to the stationary member is positioned to sense a portion of the chain code. The detector has K elements (K>>N) generating a plurality of signals. A controller determines the position of the movable member relative to the stationary member as a function of the signals.

Dated: April 28, 2003.
Karen H. Brown,
Deputy Director.

[FR Doc. 03-10922 Filed 5-1-03; 8:45 am]

BILLING CODE 3510-13-P